DEPARTMENT OF COMMERCE

Foreign-Trade Zones Board

[Docket 51-2008]

Foreign-Trade Zone 82, Application for Subzone Authority, ThyssenKrupp Steel and Stainless USA, LLC, Extension of Comment Period

The comment period for the application for subzone status at the ThyssenKrupp Steel and Stainless USA, LLC (ThyssenKrupp) facility in Calvert, Alabama (73 FR 58535-58536, 10/7/08 ) is being extended to October 9, 2009 to allow interested parties additional time in which to comment. Rebuttal comments may be submitted during the subsequent 15-day period, until October 26, 2009. Submissions shall be addressed to the Board's Executive Secretary at: Foreign-Trade Zones Board, U.S. Department of Commerce, Room 2111, 1401 Constitution Ave. NW, Washington, DC 20230. Submissions can be emailed to the address provided below.

For further information, contact Elizabeth Whiteman at Elizabeth_Whiteman@ita.doc.gov or (202) 482-0473.

Dated: September 9, 2009.
Andrew McGilvray,
Executive Secretary.

[FR Doc. E9-22496 Filed 9-17-09; 8:45 am]

BILLING CODE 3510-DS-S